DEPARTMENT OF TRANSPORTATION

Federal Aviation Administration

14 CFR Part 39

[Docket No. 2003-NM-120-AD; Amendment 39-13606; AD 2004-09-17]

RIN 2120-AA64

Airworthiness Directives; Dornier Model 328-100 and -300 Series Airplanes

AGENCY: Federal Aviation Administration, DOT.

ACTION: Final rule.

SUMMARY: This amendment adopts a new airworthiness directive (AD), applicable to all Dornier Model 328-100 and -300 series airplanes, that requires a one-time inspection for fracture and/or breakage of the hinge bolt of the output rod of the rudder spring tab lever assembly, and corrective action if necessary. This AD also requires modification of the hinge bolt. This action is necessary to prevent fracture and/or breakage of the hinge bolt, which could result in migration of the bolt tail, a loose spring tab, and consequent reduced controllability of the airplane. This action is intended to address the identified unsafe condition.

DATES: Effective June 9, 2004.

The incorporation by reference of certain publications listed in the regulations is approved by the Director of the Federal Register as of June 9, 2004.

ADDRESSES: The service information referenced in this AD may be obtained from AvCraft Aerospace GmbH, P.O. Box 1103, D-82230 Wessling, Germany. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Dornier Model 328-100 and -300 series airplanes was published in the Federal Register on March 5, 2004 (69 FR 10379). That action proposed to require a one-time inspection for fracture and/or breakage of the hinge bolt of the output rod of the rudder spring tab lever assembly, and corrective action if necessary. That action also proposed to require modification of the hinge bolt.

Comments

We provided the public the opportunity to participate in the development of this AD. No comments have been submitted on the proposed AD or on the determination of the cost to the public.

Conclusion

We have carefully reviewed the available data and determined that air safety and the public interest require adopting the AD as proposed.

Cost Impact

We estimate that 112 airplanes of U.S. registry will be affected by this AD, that it will take about 1 work hour per airplane to accomplish the inspection and modification, and that the average labor rate is $65 per work hour. Required parts will cost about $205 per airplane. Based on these figures, the cost impact of the AD on U.S. operators is estimated to be $30,240, or $270 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-17 Fairchild Dornier GmbH (Formerly Dornier Luftfahrt GmbH): Amendment 39-13606. Docket 2003-NM-120-AD.

Applicability: All Model 328-100 and 328-300 series airplanes, certificated in any category.

Compliance: Required as indicated, unless accomplished previously.

To prevent fracture and/or breakage of the hinge bolt of the output rod of the rudder spring tab lever assembly, which could result in migration of the bolt tail, a loose spring tab, and consequent reduced controllability of the airplane, accomplish the following:

One-Time Inspection/Corrective Action/Modification

(a) Within 4 months after the effective date of this AD: Do a one-time detailed inspection of the hinge bolt of the output rod of the rudder spring tab lever assembly for fracture and/or breakage of the hinge bolt by doing all the applicable actions per the Accomplishment Instructions of Dornier Service Bulletin SB-328-27-423 (for Model 328-100 series airplanes) or SB-328J-27-159 (for Model 328-300 series airplanes), both dated February 4, 2002, as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no fracture or breakage is found: Before further flight, modify the hinge bolt by doing all the applicable actions per the Accomplishment Instructions of the applicable service bulletin.

(2) If any fracture or breakage is found: Before further flight, replace the bolt per a method approved by either the Manager, International Branch, ANM-116, FAA, Transport Airplane Directorate; or the Luftfahrt-Bundesamt (or its delegated agent); then modify the hinge bolt as required by paragraph (a)(1) of this AD.

Alternative Methods of Compliance

(b) In accordance with 14 CFR 39.19, the Manager, International Branch, ANM-116, is authorized to approve alternative methods of compliance for this AD.

Incorporation by Reference

(c) Unless otherwise provided in this AD, the actions shall be done in accordance with Dornier Service Bulletin SB-328-27-423, dated February 4, 2002; or Dornier Service Bulletin SB-328J-27-159, dated February 4, 2002; as applicable. This incorporation by reference was approved by the Director of the Federal Register in accordance with 5 U.S.C. 552(a) and 1 CFR part 51. Copies may be obtained from AvCraft Aerospace GmbH, P.O. Box 1103, D-82230 Wessling, Germany. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 2: The subject of this AD is addressed in German airworthiness directives 2003-137 and 2003-143, both dated May 15, 2003.

Effective Date

(d) This amendment becomes effective on June 9, 2004.

Issued in Renton, Washington, on April 26, 2004.
Kalene C. Yanamura,
Acting Manager, Transport Airplane Directorate, Aircraft Certification Service.

[FR Doc. 04-10021 Filed 5-4-04; 8:45 am]

BILLING CODE 4910-13-P